DEPARTMENT OF LABOR

Employment and Training Administration

[TA-W-74,995]

Bush Industries, Inc., Including On-Site Leased Workers From Express Employment Professionals and Labor Ready, Erie, PA; Amended Certification Regarding Eligibility To Apply for Worker Adjustment Assistance

In accordance with Section 223 of the Trade Act of 1974, as amended (“Act”), 19 U.S.C. 2273, the Department of Labor issued a Certification of Eligibility to Apply for Worker Adjustment Assistance on February 10, 2011, applicable to workers of Bush Industries, Inc., including on-site leased workers from Express Employment Professionals and Labor Ready, Erie, Pennsylvania. The workers are engaged in the production of ready-to-assemble wood furniture. The determination was issued on February 10, 2011. The Department's Notice will soon be published in the Federal Register.

At the request of the State Agency, the Department reviewed the certification for workers of the subject firm. The review shows that a certification of eligibility to apply for worker adjustment assistance was issued for all workers of Bush Industries, Inc., including on-site leased workers from Express Employment Professionals and Labor Ready, Erie, Pennsylvania, separated from employment on or after January 26, 2009 through February 3, 2011 (TA-W-64,750). The Department's Notice was published in the Federal Register on March 3, 2009 (74 FR 9282).

In order to avoid an overlap in worker group coverage, the Department is amending the December 10, 2009 impact date established for TA-W-74,995 to read February 4, 2011.

The amended notice applicable to TA-W-74,995 is hereby issued as follows:

All workers of Bush Industries, Inc., including on-site leased workers from Express Employment Professionals and Labor Ready, Erie, Pennsylvania, who became totally or partially separated from employment on or after February 4, 2011, through February 10, 2013, and all workers in the group threatened with total or partial separation from employment on date of certification through two years from the date of certification, are eligible to apply for adjustment assistance under Chapter 2 of Title II of the Trade Act of 1974, as amended.

Signed in Washington, DC, this 9th day of March 2011.
Del Min Amy Chen,
Certifying Officer, Office of Trade Adjustment Assistance.

[FR Doc. 2011-12776 Filed 5-24-11; 8:45 am]

BILLING CODE 4510-FN-P